DEPARTMENT OF ENERGY

Environmental Management Site-Specific Advisory Board, Savannah River Site

AGENCY: Department of Energy.

ACTION: Notice of open meeting.

SUMMARY: This notice announces a meeting of the Environmental Management Site-Specific Advisory Board (EM SSAB), Savannah River Site. The Federal Advisory Committee Act (Pub. L. 92-463, 86 Stat. 770) requires that public notice of this meeting be announced in the Federal Register.

DATES: Monday, January 27, 2014 1:00 p.m.-5:00 p.m., Tuesday, January 28, 2014, 8:30 a.m.-5:15 p.m.

ADDRESSES: Hilton Garden Inn, 1065 Stevens Creek Road, Augusta, GA 30907.

FOR FURTHER INFORMATION CONTACT: Gerri Flemming, Office of External Affairs, Department of Energy, Savannah River Operations Office, P.O. Box A, Aiken, SC 29802; Phone: (803) 952-7886.

SUPPLEMENTARY INFORMATION: Purpose of the Board: The purpose of the Board is to make recommendations to DOE-EM and site management in the areas of environmental restoration, waste management, and related activities.

Tentative Agenda

Monday, January 27, 2014

1:00 p.m. Combined Committees Session

Order of committees:

• Nuclear Materials

• Administrative & Outreach

• BREAK (2:15 p.m.)

• Facilities Disposition & Site Remediation

• Waste Management

• Strategic & Legacy Management

4:45 p.m. Public Comments Session

5:00 p.m. Adjourn

Tuesday, January 28, 2014

8:30 a.m. Opening, Pledge, Approval of Minutes, Annual Voting on Approval of Existing Position Statements, Chair and Agency Updates

10:00 a.m. Public Comments Session

Break (10:15 a.m.)

Nuclear Materials Report

Waste Management Report

12:00 p.m. Public Comments Session

12:15 p.m. Lunch Break

1:30 p.m. Facilities Disposition & Site Remediation Report

Strategic & Legacy Management Report

Administrative & Outreach Committee Report

• Ballots passed out for committee chair elections*

• Recognition by DOE for outgoing Board members

4:45 p.m. Public Comments Session

*Results of election announced directly after Public Comment session

5:00 p.m. Adjourn

Public Participation: The EM SSAB, Savannah River Site, welcomes the attendance of the public at its advisory committee meetings and will make every effort to accommodate persons with physical disabilities or special needs. If you require special accommodations due to a disability, please contact Gerri Flemming at least seven days in advance of the meeting at the phone number listed above. Written statements may be filed with the Board either before or after the meeting. Individuals who wish to make oral statements pertaining to agenda items should contact Gerri Flemming's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Gerri Flemming at the address or phone number listed above. Minutes will also be available at the following Web site: http://cab.srs.gov/srs-cab.html.

Issued at Washington, DC, on December 30, 2013.
LaTanya R. Butler,
Deputy Committee Management Officer.

[FR Doc. 2013-31468 Filed 1-2-14; 8:45 am]

BILLING CODE 6450-01-P